DEPARTMENT OF STATE

[Public Notice: 10876]

Notice of Department of State Sanctions Actions Pursuant to Executive Order 13846 of August 6, 2018; Correction

AGENCY: Department of State

ACTION: Notice; correction.

SUMMARY: The Department of State published a document in the Federal Register of August 15, 2019, concerning “Notice of Department of State Sanctions Actions Pursuant to Executive Order 13846 of August 6, 2018”. The document contained an incorrect sanctions effective date. The imposed sanctions were effective on the date of the Secretary of State's announcement, which was July 22, 2019.

FOR FURTHER INFORMATION CONTACT: Ernesto Rivera, 202-485-2166.

SUPPLEMENTARY INFORMATION:

Correction

In the Federal Register of August 15, 2019, in FR Doc. 2019-17538, on page 41802, in the third column, correct the Dates caption to read:

DATES: The Secretary of State's determination that Zhuhai Zhenrong has knowingly, on or after November 5, 2018, engaged in a significant transaction for the purchase, acquisition, sale, transport, or marketing of petroleum or petroleum products from Iran, and the Secretary of State's selection of certain sanctions to be imposed upon Zhuhai Zhenrong and Youmin Li, are effective on July 22, 2019.

Zachary A. Parker,
Acting Director, Office of Directives Management, Bureau of Administration.

[FR Doc. 2019-19709 Filed 9-11-19; 8:45 am]

BILLING CODE 4710-24-P